DEPARTMENT OF ENERGY

Reopening of Scoping Period for the Northern Pass Transmission Line Project Environmental Impact Statement

AGENCY: Department of Energy.

ACTION: Reopening of scoping period.

SUMMARY: The U.S. Department of Energy (DOE) is reopening the public scoping period for the Northern Pass Transmission Line Project Environmental Impact Statement (EIS) (DOE/EIS-0463). The scoping period now ends on June 14, 2011.

DOE announced on February 11, 2011 (76 FR 7828), its intention to prepare an EIS to assess the potential environmental impacts from its proposal to grant a Presidential Permit to Northern Pass Transmission, LLC, to construct, operate, maintain, and connect a new electric transmission line across the U.S.-Canada border in northern New Hampshire. The EIS will address potential environmental impacts from the proposed action and the range of reasonable alternatives. The U.S. Forest Service, White Mountain National Forest, and the Army Corps of Engineers, New England District, are cooperating agencies.

DOE held seven public scoping meetings from March 14 to 20 in Pembroke, Franklin, Lincoln, Whitefield, Plymouth, Colebrook, and Haverhill, New Hampshire. The public scoping period closed on April 12, 2011. DOE is reopening the public scoping period in response to public requests and to ensure that the public has ample opportunity to provide comments.

DATES: The reopened public scoping period starts with the publication of this Notice in the Federal Register and will continue until June 14, 2011. Comments e-mailed or postmarked after this date will be considered to the extent practicable.

ADDRESSES: Comments on the scope of the EIS and requests to be added to the document mailing list should be addressed to: Brian Mills, Office of Electricity Delivery and Energy Reliability (OE-20), U.S. Department of Energy, 1000 Independence Avenue, SW., Washington, DC 20585; by electronic mail to Brian.Mills@hq.doe.gov; or by facsimile to 202-586-8008. For general information on the DOE NEPA process contact: Ms. Carol M. Borgstrom, Director, Office of NEPA Policy and Compliance (GC-54), U.S. Department of Energy, 1000 Independence Avenue, SW., Washington, DC 20585; by electronic mail at askNEPA@hq.doe.gov; or by facsimile at 202-586-7031.

FOR FURTHER INFORMATION CONTACT: For information on DOE's proposed action, contact Brian Mills by one of the methods listed in ADDRESSES above, or at 202-586-8267. For general information on the DOE NEPA process, contact Ms. Carol M. Borgstrom by one of the methods listed in ADDRESSES above, or at 202-586-4600, or leave a message at 800-472-2756. For information on the Forest Service's role as a cooperating agency, contact Tiffany Benna by electronic mail at tbenna@fs.fed.us; by phone at 603-536-6241; by facsimile at 603-536-3685; or by mail at 71 White Mountain Drive, Campton, NH 03223. For information on the Army Corps of Engineers' permit process, contact Erika Mark at 978-318-8250; by electronic mail at Erika.L.Mark@usace.army.mil; or by mail at 696 Virginia Road, Concord, MA 01742. Information on the EIS also is available at DOE's website for the proposed action: http://www.northernpasseis.us.

Issued in Washington, DC, on April 12, 2011.
Anthony J. Como,
Director, Permitting and Siting Office of Electricity Delivery and Energy Reliability.

[FR Doc. 2011-9161 Filed 4-14-11; 8:45 am]

BILLING CODE 6450-01-P